DEPARTMENT OF TRANSPORTATION

Surface Transportation Board

49 CFR Chapter X

[Docket No. EP 726]

On-Time Performance Under Section 213 of the Passenger Rail Investment and Improvement Act of 2008

AGENCY: Surface Transportation Board.

ACTION: Notice of commencement of proceeding.

SUMMARY: The Surface Transportation Board (the Board) is commencing a proceeding to define “on-time performance” for purposes of Section 213 of the Passenger Rail Investment and Improvement Act of 2008.

DATES: May 20, 2015.

FOR FURTHER INFORMATION CONTACT: Scott M. Zimmerman at (202) 245-0386. Assistance for the hearing impaired is available through the Federal Information Relay Service (FIRS) at (800) 877-8339.

SUPPLEMENTARY INFORMATION: The Association of American Railroads (AAR) submitted a conditional petition for rulemaking to define “on-time performance” for purposes of Section 213 of the Passenger Rail Investment and Improvement Act of 2008 (PRIIA), 49 U.S.C. 24308(f). The Board concludes that it is appropriate to institute a rulemaking proceeding to define on-time performance for purposes of PRIIA Section 213 and invite public participation. The Board intends to issue a notice of proposed rulemaking and a procedural schedule in a subsequent decision.

Additional information is contained in the Board's decision, which is available on our Web site at www.stb.dot.gov. Copies of the decision may also be purchased by contacting the Board's Office of Public Assistance, Governmental Affairs, and Compliance at (202) 245-0238.

This action will not significantly affect either the quality of the human environment or the conservation of energy resources.

Decided: May 13, 2015.
By the Board, Acting Chairman Miller and Vice Chairman Begeman.
Kenyatta Clay,
Clearance Clerk.

[FR Doc. 2015-12174 Filed 5-19-15; 8:45 am]

BILLING CODE 4915-01-P